DEPARTMENT OF TRANSPORTATION

Federal Aviation Administration

14 CFR Part 39

[Docket No. FAA-2008-0177; Directorate Identifier 2007-CE-093-AD]

RIN 2120-AA64

Airworthiness Directives; Taylorcraft Models A, B, and F Series Airplanes

AGENCY: Federal Aviation Administration (FAA), DOT.

ACTION: Notice of proposed rulemaking; correction.

SUMMARY: This document makes a correction to a current notice of proposed rulemaking (NPRM), which was published in the Federal Register on February 20, 2008 (73 FR 9239), and applies to certain Taylorcraft Models A, B, and F series airplanes. The NPRM proposed to require inspection of the wing strut attach fittings for corrosion or cracks and would require repair or replacement if corrosion or cracks are found. The docket number was incorrectly referenced at “FAA-2007-0177” instead of “FAA-2008-0177.” The NPRM is posted in the FAA-2008-0177 docket section of the Federal Docket Management System (FDMS). This document corrects the docket number and should further reduce the confusion associated with the inadvertent error.

DATES: We must receive comments on this proposed AD by March 21, 2008.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

FOR FURTHER INFORMATION CONTACT: Andy McAnaul, Aerospace Engineer, 10100 Reunion Place, San Antonio, Texas 78216; telephone: (210) 308-3365; fax: (210) 308-3370.

SUPPLEMENTARY INFORMATION:

Discussion

On February 12, 2008, the FAA issued an NPRM (73 FR 9239; February 20, 2008), which applies to certain Taylorcraft Models A, B, and F series airplanes. This proposed AD would require inspection of the wing strut attach fittings for corrosion or cracks and would require repair or replacement if corrosion or cracks are found.

The docket number was incorrectly referenced as “FAA-2007-0177” instead of “FAA-2008-0177.” The NPRM is posted in the FAA-2008-0177 docket section of the FDMS.

Need for the Correction

This correction is needed to identify the docket number and should further reduce the confusion associated with the inadvertent error.

Correction of Publication

Accordingly, the publication of February 20, 2008 (73 FR 9239), which was the subject of FR Doc. E8-2995, is corrected as follows:

On page 9239, in the second column, in the first line under 14 CFR Part 39, replace “[Docket No. FAA-2007-0177;” with “[Docket No. FAA-2008-0177;”

On page 9240, in the first column, in the second line from the top of the page, replace “FAA-2007-0177;” with “FAA-2008-0177”.

On page 9241, in the first column, in the third line under § 39.13 [Amended], replace “FAA-2007-0177;” with “FAA-2008-0177”.

Action is taken herein to correct this reference in the NPRM.

Issued in Kansas City, Missouri, on February 25, 2008.
David R. Showers,
Acting Manager, Small Airplane Directorate, Aircraft Certification Service.

[FR Doc. 08-892 Filed 2-29-08; 8:45 am]

BILLING CODE 4910-13-M